DEPARTMENT OF EDUCATION

[Docket No.: ED-2021-SCC-0020]

Agency Information Collection Activities; Submission to the Office of Management and Budget for Review and Approval; Comment Request; Randolph-Sheppard Financial Relief and Restoration Payments Appropriation

AGENCY: Office of Special Education and Rehabilitative Services (OSERS), Department of Education (ED).

ACTION: Notice.

SUMMARY: In accordance with the Paperwork Reduction Act of 1995, ED is proposing an extension without change of a currently approved collection.

DATES: Interested persons are invited to submit comments on or before July 14, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Jesse Hartle, 202-245-6415.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Randolph-Sheppard Financial Relief and Restoration Payments Appropriation.

OMB Control Number: 1820-0698.

Type of Review: An extension without change of a currently approved collection.

Respondents/Affected Public: State, Local or Tribal Governments.

Total Estimated Number of Annual Responses: 51.

Total Estimated Number of Annual Burden Hours: 51.

Abstract: This is a request for an extension of the emergency approval for information collection resulting from enactment of the Consolidated Appropriations Act of 2021, Division H, Title III, Section 318. This provision authorized the Secretary of Education to allot $20,000,000 for one-time financial relief and restoration grants consistent with the purposes of the Randolph-Sheppard Act as authorized under section 10 of such Act (20 U.S.C. 107f). Prior to this legislation, Congress has not appropriated such funds concerning the Randolph-Sheppard Vending Facility Program, as such the Department is seeking this data collection in order to meet its obligation to ensure that Federal funds are being used for their prescribed purposes.

Dated: June 9, 2021.
Kate Mullan,
PRA Coordinator, Strategic Collections and Clearance Governance and Strategy Division, Office of Chief Data Officer, Office of Planning, Evaluation and Policy Development.

[FR Doc. 2021-12406 Filed 6-11-21; 8:45 am]

BILLING CODE 4000-01-P